DEPARTMENT OF ENERGY

Federal Energy Regulatory Commission

[Docket No. CP22-16-000]

Georgia-Pacific Consumer Operations LLC; Notice of Schedule for the Preparation of an Environmental Assessment for the Georgia-Pacific Consumer Pipeline Abandonment Project

On November 16, 2021, Georgia-Pacific Consumer Operations LLC (GPC) filed an application in Docket No. CP22-16-000 requesting Authorization pursuant to Section 7(b) of the Natural Gas Act to abandon certain gas pipeline facilities. The proposed project is known as the Georgia-Pacific Consumer Pipeline Abandonment Project (Project) and involves abandoning natural gas transmission pipeline and auxiliary facilities in Union Parish, Louisiana and Ashley County, Arkansas.

On November 30, 2021, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020)

Schedule for Environmental Review

Issuance of EA May 27, 2022

90-day Federal Authorization Decision Deadline ² August 25, 2022

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

GPC proposes to abandon in-place approximately 19.5 miles of 8-inch- diameter natural gas transmission pipeline and auxiliary facilities in Union Parish, Louisiana and Ashley County, Arkansas. Additionally, GPC proposes to abandon by removal all aboveground features associated with the 19.5 miles of pipeline.

Background

On February 1, 2022, the Commission issued a Notice of Scoping Period Requesting Comments on Environmental Issues for the Proposed GPC Pipeline Abandonment Project. The Notice of Scoping was sent to affected landowners; federal, state, and local government agencies; elected officials; environmental and public interest groups; Native American tribes; other interested parties; and local libraries and newspapers. The Notice of Scoping stated that the scoping period would end on March 3, 2022. All substantive comments received in response to the Notice of Application and Notice of Scoping will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” excluding the last three digits (i.e., CP22-16-000), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: February 15, 2022.
Kimberly D. Bose,
Secretary.

[FR Doc. 2022-03693 Filed 2-18-22; 8:45 am]

BILLING CODE 6717-01-P